DEPARTMENT OF HOUSING AND URBAN DEVELOPMENT

[Docket No. FR-7050-N-20; OMB Control No.: 2577-0274]

30-Day Notice of Proposed Information Collection: Energy and Performance Information Center (EPIC)

AGENCY: Office of Policy Development and Research, Chief Data Officer, HUD.

ACTION: Notice.

SUMMARY: HUD is seeking approval from the Office of Management and Budget (OMB) for the information collection described below. In accordance with the Paperwork Reduction Act, HUD is requesting comment from all interested parties on the proposed collection of information. The purpose of this notice is to allow for an additional 30 days of public comment.

DATES: Comments Due Date: June 17, 2022.

ADDRESSES: Interested persons are invited to submit comments regarding this proposal. Written comments and recommendations for the proposed information collection should be sent within 30 days of publication of this notice to OIRA_submission@omb.eop.gov or www.reginfo.gov/public/do/PRAMain. Find this particular information collection by selecting “Currently under 30-day Review—Open for Public Comments” or by using the search function.

FOR FURTHER INFORMATION CONTACT: Colette Pollard, Reports Management Officer, QDAM, Department of Housing and Urban Development, 451 7th Street SW, Washington, DC 20410; email Colette Pollard at Colette.Pollard@hud.gov or telephone 202-402-3400. This is not a toll-free number. Persons with hearing or speech impairments may access this number through TTY by calling the toll-free Federal Relay Service at (800) 877-8339.

Copies of available documents submitted to OMB may be obtained from Ms. Pollard.

SUPPLEMENTARY INFORMATION: This notice informs the public that HUD is seeking approval from OMB for the information collection described in Section A.

The Federal Register notice that solicited public comment on the information collection for a period of 60 days was published on March 9, 2022 at 87 FR 13305.

A. Overview of Information Collection

Title of Information Collection: Energy and Performance Information Center (EPIC).

OMB Approval Number: 2577-0274.

Type of Request: Revision of a currently approved collection.

Form Numbers: N/A—all information collected electronically through the EPIC data system.

Description of the need for the information and proposed use: The EPIC data system automates the previous paper collection of the Five-year Plan and Annual Statement/Budget/Performance and Evaluation (P&E) forms from grantees. These are required forms that were previously collected in hard copy on Forms HUD 50075.1 and HUD 50075.2 under collection OMB control number 2577-0157. These forms collect data on the eventual, and actual use of funds. Electronic collection will enable the Department to aggregate information about the way grantees are using Federal funding. Tracking of the use of Federal funds paid through the Public Housing Capital Fund, the only Federal funding stream dedicated to the capital needs of the nation's last resort housing option, is crucial to understanding how the Department can properly and efficiently assist grantees in meeting this goal as well as assessing the Department's own progress. EPIC also automates the collection of signed documents required by 24 CFR 905 in order to gain access to funds awarded by HUD. These forms are covered under other PRAs. Finally, EPIC allows PHAs to request to use additional funding sources, such as Operating Funds, for capital fund eligible activities.

The EPIC data system is equipped to collect Physical Needs Assessment (“PNA”) data, should this data be required in the future. This data being in the system coupled with the electronic planning process would streamline grantee planning. The EPIC data system is equipped to collect information about the Energy Performance Contract (“EPC”) process, including the energy efficiency improvements. As the Department moves to shrink its energy footprint in spite of rising energy costs, clear and comprehensive data on this process will be crucial to its success. The EPIC data system is equipped to track development of public housing with Federal funds and through other means, including mixed-finance development.

Respondents: Members of Affected Public: State, Local or Local Governments and Non-profit organizations.

Estimated Number of Respondents: See table below.

Estimated Number of Responses: See table below.

Frequency of Response: See table below.

Average Hours per Response: See table below.

Total Estimated Burdens: See table below.

Form/document | Number of respondents | Frequency | Total responses | Hours per response | Total hours | Cost per hour | Total cost
1 Core Activity | 2,8000 | 1 | 2,800 | 2 | 5,600 | $44.10 | $246,960
2 5-Yr Plan | 2,000 | 1 | 2,000 | 2 | 4,000 | 44.10 | 176,400
3 Annual Stmt/Budget | 2,800 | 3 | 8,400 | 1 | 8,400 | 44.10 | 370,440
4 P&E | 2,800 | 0.5 | 1,475 | 1 | 1,475 | 44.10 | 65,048
5 Document Management Center | 2,800 | 2 | 5,600 | 0.5 | 2,800 | 44.10 | 123,480
6 Additional Capital Resources | 15 | 1 | 15 | 0.5 | 7.5 | 44.10 | 331
6 EPC | 30 | 1 | 30 | 120 | 3,600 | 44.10 | 158,760
7 Public Housing Development | 60 | 1 | 60 | 120 | 7,200 | 44.10 | 317,520
8 Mixed Finance Early Warning | 60 | 1 | 60 | 0.33 | 20 | 44.10 | 882
Totals | 2,800 | Varies | 20,440 | Varies | 33,102.5 | 44.10 | 1,459,820

The follow are the specific revisions to the public burden by instrument:

1. The projected labor burden was decreased for Core Activity due to grantees becoming familiar with navigating that aspect of the EPIC system and because submissions after the first reporting cycle for a grant will be an update to the initial submitted report and will require less labor to complete. This reduced hours from the collection 3,250 hours.

2. P&E Reports are no longer required annually, reducing the number of responses and hours by 7,025.

3. RHF data will no longer be collected as that program is being phased out of CFP, reducing the number of collection hours by 25.

4. The Annual Statement/Budget total number of responses dropped by 100 due to the total number of respondents being lowered.

5. EPIC now collects copies of documents previously submitted on paper covered by CFP, Annual Plan and ACC PRA adding collection hours of 2,800.

6. EPIC has added a way for PHA to request to use additional capital resources via EPIC, increasing collection hours of 7.5.

B. Solicitation of Public Comment

This notice is soliciting comments from members of the public and affected parties concerning the collection of information described in Section A on the following:

(1) Whether the proposed collection of information is necessary for the proper performance of the functions of the agency, including whether the information will have practical utility;

(2) The accuracy of the agency's estimate of the burden of the proposed collection of information;

(3) Ways to enhance the quality, utility, and clarity of the information to be collected; and

(4) Ways to minimize the burden of the collection of information on those who are to respond; including through the use of appropriate automated collection techniques or other forms of information technology, e.g., permitting electronic submission of responses.

(5) ways to minimize the burden of the collection of information on those who are to respond, including the use of automated collection techniques or other forms of information technology.

HUD encourages interested parties to submit comment in response to these questions.

C. Authority

Section 3507 of the Paperwork Reduction Act of 1995, 44 U.S.C. Chapter 35 as amended.

Colette Pollard,
Department Reports Management Officer, Office of Policy Development and Research, Chief Data Officer.

[FR Doc. 2022-10685 Filed 5-17-22; 8:45 am]

BILLING CODE 4210-67-P